DEPARTMENT OF TRANSPORTATION

Federal Railroad Administration

[Docket Number FRA-2024-0102]

Petition for Special Approval

Under part 211 of title 49 Code of Federal Regulations (CFR), this document provides the public notice that by letter dated August 23, 2024, Southern California Regional Rail Authority (Metrolink) petitioned the Federal Railroad Administration (FRA) for a special approval pursuant to 49 CFR part 238 (Passenger Equipment Safety Standards). FRA assigned the petition Docket Number FRA-2024-0102.

Specifically, Metrolink requested a special approval of alternative standard per § 238.21, Special approval procedure, regarding § 238.309(b), Periodic brake equipment maintenance—DMU and MU locomotives, for three Stadler FLIRT diesel multiple units (DMUs). Metrolink sought to extend the clean, oil, test, and stencil (COT&S) intervals from 736 days, as stated in § 238.309(b)(4) for “all other DMU or MU locomotives,” to 1,840 days, as permitted by § 238.309(b)(3) for DMUs “part of a fleet that is 100 percent equipped with air dryers and is equipped with KB-HL1, KB-HS1, or KBCT1.”

In support of the request, Metrolink explained that the manufacturer of the braking systems, Knorr, is experiencing delays in lead time for materials required to complete the brake overhaul. Metrolink noted that only after a quote and scope of work is received from Knorr will it be possible for Metrolink to establish a schedule for completing the COT&S.

Metrolink asserted that “[t]o ensure an equivalent level of safety for extending the COT&S intervals to an 1[,]840 day” interval, Metrolink will: (1) perform “detailed periodic maintenance inspections of the air brake system,” and perform “all tasks outlined in § 238.309(b)(4)” (minus the replacement of actual brake components needing to be overhauled) on an annual basis; (2) perform “a Class I brake test” on all DMUs before daily service; (3) review the fault log daily; (4) review “Teloc downloads” weekly; and (5) provide FRA with a “quarterly report detailing any air brake component defects or faults that relate to going beyond the overhaul intervals along with the corrective actions/repairs.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by January 21, 2025 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-26993 Filed 11-19-24; 8:45 am]

BILLING CODE 4910-06-P